FEDERAL ELECTION COMMISSION

Sunshine Act Meeting

FEDERAL REGISTER CITATION NOTICE OF PREVIOUS ANNOUNCEMENT: 86 FR 58278.

PREVIOUSLY ANNOUNCED TIME AND DATE OF THE MEETING: Tuesday, October 26, 2021 at 10:00 a.m. and its continuation at the conclusion of the open meeting on October 28, 2021.

CHANGES IN THE MEETING: This meeting also discussed:

Matters relating to internal personnel decisions, or internal rules and practices.

Information for which disclosure would constitute an unwarranted invasion of privacy.

Information the premature disclosure of which would be likely to have a considerable adverse effect on the implementation of a proposed Commission action.

* * * * *

CONTACT FOR MORE INFORMATION: Judith Ingram, Press Officer. Telephone: (202) 694-1220.

Vicktoria J. Allen,
Acting Deputy Secretary of the Commission.

[FR Doc. 2021-23685 Filed 10-27-21; 11:15 am]

BILLING CODE 6715-01-P